DEPARTMENT OF HEALTH AND HUMAN SERVICES

Centers for Medicare & Medicaid Services

Privacy Act of 1974; Report of a Modified or Altered System of Records

AGENCY: Department of Health and Human Services (HHS), Centers for Medicare & Medicaid Services (CMS).

ACTION: Notice of a Modified or Altered System of Records (SOR).

SUMMARY: In accordance with the Privacy Act of 1974, we are proposing to modify or alter an existing SOR, “Medicare Appeals System (MAS),” System No. 09-70-5001, last published at 69 Federal Register (FR) 75323 (December 16, 2004). CMS is reorganizing its databases because of the impact of the Medicare Prescription Drug, Improvement, and Modernization Act of 2003 (MMA) (Public Law (Pub.L.) 108-173) provisions and the large volume of information the Agency collects to administer the Medicare program. We propose to assign a new CMS identification number to this system to simplify the obsolete and confusing numbering system originally designed to identify the Bureau, Office, or Center that maintained the system of records. The new assigned identifying number for this system should read: System No. 09-70-0566.

We propose to broaden the scope of this system with the inclusion of support for two additional appeals processes: documenting policies and procedures relating to National Coverage Determinations and Prescription Drug Coverage appeals. These new processes are added to the current appeals process that include appeals of Medicare claims decisions, Administrative Law Judge hearings, and Medicare Advantage service decisions.

We propose to modify existing routine use number 1 that permits disclosure to agency contractors and consultants to include disclosure to CMS grantees who perform a task for the agency. CMS grantees, charged with completing projects or activities that requires CMS data to carry out that activity, are classified separate from CMS contractors and/or consultants. The modified routine use will remain as routine use number 1.

We propose to broaden the scope of routine uses number 5 and 6, authorizing disclosures to combat fraud and abuse in the Medicare and Medicaid programs to include combating “waste” which refers to specific beneficiary/recipient practices that result in unnecessary cost to all federally funded health benefit programs.

We will delete routine use number 4, authorizing disclosure to support constituent requests made to a Congressional representative. If an authorization for the disclosure has been obtained from the data subject, then no routine use is needed. The Privacy Act allows for disclosures with the “prior written consent” of the data subject.

We are modifying the language in the remaining routine uses to provide a proper explanation as to the need for the routine use and to provide clarity to CMS's intention to disclose individual-specific information contained in this system. We will also take the opportunity to update any sections of the system that were affected by the recent reorganization or MMA provisions and to update language in the administrative sections to correspond with language used in other CMS SORs.

The primary purpose of this modified system is to collect and maintain information necessary to: (1) Process level two and level three appeal requests made by an appellant or appealing party; (2) track appeal data, including: status, type, history, timeliness, and decisions; and (3) respond to future correspondence related to the case. The information retrieved from this system of records will also be disclosed to: (1) Support regulatory and policy functions performed within the agency or by a contractor, consultant, or grantee; (2) another Federal agency; (3) assist Quality Improvement Organizations; (4) support litigation involving the agency; and (5) combat fraud, waste, and abuse. We have provided background information about the modified system in the SUPPLEMENTARY INFORMATION section below. Although the Privacy Act requires only that CMS provide an opportunity for interested persons to comment on the modified or altered routine uses, CMS invites comments on all portions of this notice. See “Effective Dates” section for comment period.

DATES: Effective Date: CMS filed a modified or altered SOR report with the Chair of the House Committee on Government Reform and Oversight, the Chair of the Senate Committee on Homeland Security & Governmental Affairs, and the Administrator, Office of Information and Regulatory Affairs, Office of Management and Budget (OMB) on September 6, 2006. To ensure that all parties have adequate time in which to comment, the new system will become effective 30 days from the publication of the notice, or 40 days from the date it was submitted to OMB and the Congress, whichever is later. We may defer implementation of this system or one or more of the routine use statements listed below if we receive comments that persuade us to defer implementation.

ADDRESSES: The public should address comments to the CMS Privacy Officer, Division of Privacy Compliance, Enterprise Architecture and Strategy Group, CMS, Mail Stop N2-04-27, 7500 Security Boulevard, Baltimore, Maryland 21244-1850. Comments received will be available for review at this location, by appointment, during regular business hours, Monday through Friday from 9 a.m.-3 p.m., eastern daylight time.

FOR FURTHER INFORMATION CONTACT: Aaron Pleines, Division of Appeals Operations, Medicare Enrollment and Appeals Group, Center for Beneficiary Choices, CMS, Mail Stop S1-05-06, 7500 Security Boulevard, Baltimore, Maryland 21244-1850. He can also be reached by telephone at 410-786-2137, or via e-mail at Aaron.Pleines@cms.hhs.gov.

SUPPLEMENTARY INFORMATION: In 1987, CMS established this SOR under the authority of sections 205, 1155, 1156, 1869, and 1872 of the Social Security Act. Notice of this system, “Medicare Hearings and Appeals System (MHAS) System No. 09-70-5001,” was published at 52 FR 34846 (September 15, 1987), an unnumbered routine use for disclosure to the Social Security Administration (SSA) was added at 61 FR 6645 (February 21, 1996), an unnumbered routine use for SSA was deleted, a routine use for Quality Improvement Organizations and two routine uses for combating fraud and abuse were added at 69 FR 75323 (December 16, 2004).

I. Description of the Modified or Altered System of Records

A. Statutory and Regulatory Basis for SOR

Authority for maintenance of the system is given under § 205 of Title II, §§ 1155 and 1156 of Title XI, §§ 1812, 1814, 1816, 1842, 1869, and 1872 of Title XVIII of the Social Security Act (the Act), as amended (42 United States Code (U.S.C.) sections 405, 1320c-4, 1320c-5, 1395d, 1395f, 1395h, 1395u, 1395ff, and 1395ii). Additional authority for this system is given under the Medicare Prescription Drug, Improvement, and Modernization Act of 2003 (Public Law (Pub. L.) 108-173).

B. Collection and Maintenance of Data in the System

MAS contains information concerning Medicare beneficiaries, physicians, providers, practitioners, suppliers and other persons involved in furnishing items and services to health insurance beneficiaries. Information on beneficiaries includes, but is not limited to: name, address, social security number, health insurance claim number, medical services, equipment and supplies for which Medicare reimbursement is requested, and materials used to determine the amount of benefits allowable under Medicare. Information on appellants, physicians, and other persons include, but is not limited to: name, work address, work phone number, and assigned provider identification number, specialty, medical services for which Medicare reimbursement is requested, and materials used to determine amounts of benefits allowable under Medicare.

II. Agency Policies, Procedures, and Restrictions on the Routine Use

A. Agency Policies, Procedures, and Restrictions on the Routine Use

The Privacy Act permits us to disclose information without an individual's consent if the information is to be used for a purpose that is compatible with the purpose(s) for which the information was collected. Any such disclosure of data is known as a “routine use.” The government will only release MAS information that can be associated with an individual as provided for under “Section III. Proposed Routine Use Disclosures of Data in the System.” Both identifiable and non-identifiable data may be disclosed under a routine use.

We will only collect the minimum personal data necessary to achieve the purpose of MAS. CMS has the following policies and procedures concerning disclosures of information that will be maintained in the system. Disclosure of information from this system will be approved only to the extent necessary to accomplish the purpose of the disclosure and only after CMS:

1. Determines that the use or disclosure is consistent with the reason that the data is being collected, e.g., to collect and maintain information necessary to: (1) Process level two and level three appeal requests made by an appellant or appealing party; (2) track appeal data, including: status, type, history, timeliness, and decisions; and (3) respond to future correspondence related to the case.

2. Determines that:

a. The purpose for which the disclosure is to be made can only be accomplished if the record is provided in individually identifiable form;

b. The purpose for which the disclosure is to be made is of sufficient importance to warrant the effect and/or risk on the privacy of the individual that additional exposure of the record might bring; and

c. There is a strong probability that the proposed use of the data would in fact accomplish the stated purpose(s).

3. Requires the information recipient to:

a. Establish administrative, technical, and physical safeguards to prevent unauthorized use of disclosure of the record;

b. Remove or destroy at the earliest time all patient-identifiable information; and

c. Agree to not use or disclose the information for any purpose other than the stated purpose under which the information was disclosed.

4. Determines that the data are valid and reliable.

III. Proposed Routine Use Disclosures of Data in the System

A. The Privacy Act allows us to disclose information without an individual's consent if the information is to be used for a purpose that is compatible with the purpose(s) for which the information was collected.

Any such compatible use of data is known as a “routine use.” The proposed routine uses in this system meet the compatibility requirement of the Privacy Act. We are proposing to establish the following routine use disclosures of information maintained in the system:

1. To support agency contractor, consultant, or grantee who have been engaged by the agency to assist in the accomplishment of a CMS function relating to the purposes for this system and who need to have access to the records in order to assist CMS.

We contemplate disclosing this information under this routine use only in situations in which CMS may enter into a contractual or similar agreement with a third party to assist in accomplishing a CMS function relating to purposes for this system.

CMS occasionally contracts out certain of its functions when doing so would contribute to effective and efficient operations. CMS must be able to give a contractor, consultant or grantee whatever information is necessary for the contractor, consultant or grantee to fulfill its duties. In these situations, safeguards are provided in the contract prohibiting the contractor, consultant or grantee from using or disclosing the information for any purpose other than that described in the contract and requires the contractor, consultant or grantee to return or destroy all information at the completion of the contract.

2. To assist another Federal agency in the accomplishment of a CMS function relating to the purposes for this system and who need to have access to the records in order to support CMS.

DOJ may require MAS data to assist them in investigating and prosecuting violations of the Act to which criminal penalties attach, or other criminal statutes as they pertain to certain programs authorized by the Act, and for representing the Secretary of the Department of Health and Human Services.

We contemplate disclosing information under this routine use only in situations in which CMS may enter into a contractual or similar agreement with another Federal agency to assist in accomplishing CMS functions relating to purposes for this system.

3. To assist Quality Improvement Organizations (QIO) in connection with the review of claims, or in connection with studies or other review activities, conducted pursuant to Part B of Title XI of the Act and in performing affirmative outreach activities to individuals for the purpose of establishing and maintaining their entitlement to Medicare benefits or health insurance plans.

QIOs will work to implement quality improvement programs, provide consultation to CMS, its contractors, and to ensure that payment is only made for medically necessary services. QIOs will assist in related monitoring and enforcement efforts, assist CMS and intermediaries in program integrity assessment, investigate beneficiary complaints about quality of care, and prepare summary information for release to CMS.

4. To the Department of Justice (DOJ), court or adjudicatory body when:

a. The agency or any component thereof, or

b. Any employee of the agency in his or her official capacity, or

c. Any employee of the agency in his or her individual capacity where the DOJ has agreed to represent the employee, or

d. The United States Government is a party to litigation or has an interest in such litigation, and by careful review, CMS determines that the records are both relevant and necessary to the litigation and that the use of such records by the DOJ, court or adjudicatory body is compatible with the purpose for which the agency collected the records.

Whenever CMS is involved in litigation, and occasionally when another party is involved in litigation and CMS's policies or operations could be affected by the outcome of the litigation, CMS would be able to disclose information to the DOJ, court or adjudicatory body involved.

5. To a CMS contractor (including, but not necessarily limited to, fiscal intermediaries and carriers) that assists in the administration of a CMS-administered health benefits program, or to a grantee of a CMS-administered grant program, when disclosure is deemed reasonably necessary by CMS to prevent, deter, discover, detect, investigate, examine, prosecute, sue with respect to, defend against, correct, remedy, or otherwise combat fraud, waste, or abuse in such program.

We contemplate disclosing information under this routine use only in situations in which CMS may enter into a contractual, grantee, cooperative agreement or consultant relationship with a third party to assist in accomplishing CMS functions relating to the purpose of combating fraud, waste, and abuse. CMS occasionally contracts out certain of its functions or makes grants or cooperative agreements when doing so would contribute to effective and efficient operations. CMS must be able to give a contractor, grantee, consultant or other legal agent whatever information is necessary for the agent to fulfill its duties. In these situations, safeguards are provided in the contract prohibiting the agent from using or disclosing the information for any purpose other than that described in the contract and requiring the agent to return or destroy all information.

6. To another Federal agency or to an instrumentality of any governmental jurisdiction within or under the control of the United States (including any State or local governmental agency), that administers, or that has the authority to investigate potential fraud, waste, or abuse in, a health benefits program funded in whole or in part by Federal funds, when disclosure is deemed reasonably necessary by CMS to prevent, deter, discover, detect, investigate, examine, prosecute, sue with respect to, defend against, correct, remedy, or otherwise combat fraud, waste, or abuse in such programs.

Other agencies may require MAS information for the purpose of combating fraud, waste, and abuse in such Federally-funded programs.

B. Additional Provisions Affecting Routine Use Disclosures

To the extent this system contains Protected Health Information (PHI) as defined by HHS regulation “Standards for Privacy of Individually Identifiable Health Information” (45 CFR parts 160 and 164, subparts A and E) 65 FR 82462 (12-28-00). Disclosures of such PHI that are otherwise authorized by these routine uses may only be made if, and as, permitted or required by the “Standards for Privacy of Individually Identifiable Health Information.” (See 45 CFR 164.512(a)(1)).

In addition, our policy will be to prohibit release even of data not directly identifiable, except pursuant to one of the routine uses or if required by law, if we determine there is a possibility that an individual can be identified through implicit deduction based on small cell sizes (instances where the patient population is so small that an individual could, because of the small size of the information provided, use this information to deduce the identity of the beneficiary).

IV. Safeguards

CMS has safeguards in place for authorized users and monitors such users to ensure against excessive or unauthorized use. Personnel having access to the system have been trained in the Privacy Act and information security requirements. Employees who maintain records in this system are instructed not to release data until the intended recipient agrees to implement appropriate management, operational and technical safeguards sufficient to protect the confidentiality, integrity and availability of the information and information systems and to prevent unauthorized access.

This system will conform to all applicable Federal laws and regulations and Federal, HHS, and CMS policies and standards as they relate to information security and data privacy. These laws and regulations may apply but are not limited to: The Privacy Act of 1974; the Federal Information Security Management Act of 2002; the Computer Fraud and Abuse Act of 1986; the Health Insurance Portability and Accountability Act of 1996; the E-Government Act of 2002, the Clinger-Cohen Act of 1996; the Medicare Modernization Act of 2003, and the corresponding implementing regulations. OMB Circular A-130, Management of Federal Resources, Appendix III, Security of Federal Automated Information Resources, also applies.

Federal, HHS, and CMS policies and standards include but are not limited to: All pertinent National Institute of Standards and Technology publications; the HHS Information Systems Program Handbook and the CMS Information Security Handbook.

V. Effects of the Modified or Altered System of Records on Individual Rights

CMS proposes to modify this system in accordance with the principles and requirements of the Privacy Act and will collect, use, and disseminate information only as prescribed therein. Data in this system will be subject to the authorized releases in accordance with the routine uses identified in this system of records.

CMS will take precautionary measures to minimize the risks of unauthorized access to the records and the potential harm to individual privacy or other personal or property rights of patients whose data are maintained in the system. CMS will collect only that information necessary to perform the system's functions. In addition, CMS will make disclosure from the proposed system only with consent of the subject individual, or his/her legal representative, or in accordance with an applicable exception provision of the Privacy Act. CMS, therefore, does not anticipate an unfavorable effect on individual privacy as a result of information relating to individuals.

Dated: September 1, 2006.
Charlene Frizzera,
Acting Chief Operating Officer, Centers for Medicare & Medicaid Services.

System No.: 09-70-0566

System Name:

“Medicare Appeals System (MAS),” HHS/CMS/CBC.

Security Classification:

Level Three Privacy Act Sensitive Data.

System Location:

The Centers for Medicare & Medicaid Services (CMS) Data Center, 7500 Security Boulevard, North Building, First Floor, Baltimore, Maryland 21244-1850. This system is also located in locations listed in Appendix A.

Categories of Individuals Covered by the System:

MAS contains information concerning Medicare beneficiaries, physicians, providers, practitioners, suppliers and other persons involved in furnishing items and services to health insurance beneficiaries.

Categories of Records in the System:

Information on beneficiaries includes, but is not limited to: Name, address, social security number (SSN), health insurance claim number (HICN), medical services, equipment and supplies for which Medicare reimbursement is requested, and materials used to determine the amount of benefits allowable under Medicare. Information on appellants, physicians, and other persons includes, but is not limited to: name, work address, work phone number, and assigned provider identification number, specialty, medical services for which Medicare reimbursement is requested, and materials used to determine amounts of benefits allowable under Medicare.

Authority For Maintenance of the System:

Authority for maintenance of the system is given under § 205 of Title II, §§ 1155 and 1156 of Title XI, §§ 1812, 1814, 1816, 1842, 1869, and 1872 of Title XVIII of the Social Security Act (the Act), as amended (42 United States Code (U.S.C.) sections 405, 1320c-4, 1320c-5, 1395d, 1395f, 1395h, 1395u, 1395ff, and 1395ii). Additional authority for this system is given under the Medicare Prescription Drug, Improvement, and Modernization Act of 2003 (Public Law (Pub. L.) 108-173).

Purpose(s) of the System:

The primary purpose of this modified system is to collect and maintain information necessary to: (1) Process level two and level three appeal requests made by an appellant or appealing party; (2) track appeal data, including: status, type, history, timeliness, and decisions; and (3) respond to future correspondence related to the case. The information retrieved from this system of records will also be disclosed to: (1) Support regulatory and policy functions performed within the agency or by a contractor, consultant, or grantee; (2) another Federal agency; (3) assist Quality Improvement Organizations; (4) support litigation involving the agency; and (5) combat fraud, waste, and abuse.

Routine Uses of Records Maintained in the System, Including Categories of Users and the Purposes of Such Uses:

A. The Privacy Act Allows Us To Disclose Information Without an Individual's Consent if the Information Is To Be Used for a Purpose That Is Compatible With the Purpose(s) for Which the Information Was Collected.

Any such compatible use of data is known as a “routine use.” The proposed routine uses in this system meet the compatibility requirement of the Privacy Act. We are proposing to establish the following routine use disclosures of information maintained in the system:

1. To support agency contractor, consultant, or grantee who have been engaged by the agency to assist in the accomplishment of a CMS function relating to the purposes for this system and who need to have access to the records in order to assist CMS.

2. To assist another Federal agency in the accomplishment of a CMS function relating to the purposes for this system and who need to have access to the records in order to support CMS.

3. To assist Quality Improvement Organizations (QIO) in connection with the review of claims, or in connection with studies or other review activities, conducted pursuant to Part B of Title XI of the Act and in performing affirmative outreach activities to individuals for the purpose of establishing and maintaining their entitlement to Medicare benefits or health insurance plans.

4. To the Department of Justice (DOJ), court or adjudicatory body when:

a. The agency or any component thereof, or

b. Any employee of the agency in his or her official capacity, or

c. Any employee of the agency in his or her individual capacity where the DOJ has agreed to represent the employee, or

d. The United States Government is a party to litigation or has an interest in such litigation, and by careful review, CMS determines that the records are both relevant and necessary to the litigation and that the use of such records by the DOJ, court or adjudicatory body is compatible with the purpose for which the agency collected the records.

5. To a CMS contractor (including, but not necessarily limited to, fiscal intermediaries and carriers) that assists in the administration of a CMS-administered health benefits program, or to a grantee of a CMS-administered grant program, when disclosure is deemed reasonably necessary by CMS to prevent, deter, discover, detect, investigate, examine, prosecute, sue with respect to, defend against, correct, remedy, or otherwise combat fraud, waste, or abuse in such program.

6. To another Federal agency or to an instrumentality of any governmental jurisdiction within or under the control of the United States (including any State or local governmental agency), that administers, or that has the authority to investigate potential fraud, waste, or abuse in, a health benefits program funded in whole or in part by Federal funds, when disclosure is deemed reasonably necessary by CMS to prevent, deter, discover, detect, investigate, examine, prosecute, sue with respect to, defend against, correct, remedy, or otherwise combat fraud, waste, or abuse in such programs.

B. Additional Provisions Affecting Routine Use Disclosures.

To the extent this system contains Protected Health Information (PHI) as defined by HHS regulation “Standards for Privacy of Individually Identifiable Health Information” (45 CFR parts 160 and 164, subparts A and E) 65 FR 82462 (12-28-00). Disclosures of such PHI that are otherwise authorized by these routine uses may only be made if, and as, permitted or required by the “Standards for Privacy of Individually Identifiable Health Information.” (See 45 CFR 164.512(a)(1)).

In addition, our policy will be to prohibit release even of data not directly identifiable, except pursuant to one of the routine uses or if required by law, if we determine there is a possibility that an individual can be identified through implicit deduction based on small cell sizes (instances where the patient population is so small that an individual could, because of the small size of the information provided, use this information to deduce the identity of the beneficiary).

Policies and Practices for Storing, Retrieving, Accessing, Retaining, and Disposing of Records in the System:

Storage:

All records are stored on computer diskette and magnetic storage media.

Retrievability:

Information can be retrieved by the name, SSN, HICN, and assigned provider number.

Safeguards:

CMS has safeguards in place for authorized users and monitors such users to ensure against excessive or unauthorized use. Personnel having access to the system have been trained in the Privacy Act and information security requirements. Employees who maintain records in this system are instructed not to release data until the intended recipient agrees to implement appropriate management, operational and technical safeguards sufficient to protect the confidentiality, integrity and availability of the information and information systems and to prevent unauthorized access.

This system will conform to all applicable Federal laws and regulations and Federal, HHS, and CMS policies and standards as they relate to information security and data privacy. These laws and regulations may apply but are not limited to: The Privacy Act of 1974; the Federal Information Security Management Act of 2002; the Computer Fraud and Abuse Act of 1986; the Health Insurance Portability and Accountability Act of 1996; the E-Government Act of 2002, the Clinger-Cohen Act of 1996; the Medicare Modernization Act of 2003, and the corresponding implementing regulations. OMB Circular A-130, Management of Federal Resources, Appendix III, Security of Federal Automated Information Resources also applies. Federal, HHS, and CMS policies and standards include but are not limited to: all pertinent National Institute of Standards and Technology publications; the HHS Information Systems Program Handbook and the CMS Information Security Handbook.

Retention and Disposal:

Records are maintained in a secure storage area with identifiers. Disposal occurs ten years after the final determination of the case is completed. All claims-related records are encompassed by the document preservation order and will be retained until notification is received from DOJ.

System Manager(s) and Address:

Director, Division of Appeals Operations, Medicare Enrollment and Appeals Group, Center for Beneficiary Choices, CMS, Mail Stop S1-05-06, 7500 Security Boulevard, Baltimore, Maryland 21244-1850.

Notification Procedure:

For purpose of access, the subject individual should write to the system manager who will require the system name, HICN, address, date of birth, and gender, and for verification purposes, the subject individual's name (woman's maiden name, if applicable), and SSN. Furnishing the SSN is voluntary, but it may make searching for a record easier and prevent delay.

Record Access Procedure:

For purpose of access, use the same procedures outlined in Notification Procedures above. Requestors should also specify the record contents being sought. (These procedures are in accordance with department regulation 45 CFR 5b.5(a)(2)).

Contesting Records Procedures:

The subject individual should contact the system manager named above, and reasonably identify the records and specify the information to be contested. In addition the individual should state the corrective action sought and the reasons for the correction with supporting justification. (These Procedures are in accordance with Department regulation 45 CFR 5b.7).

Records Source Categories:

Sources on information contained in this records system include data collected from the individual on the completed form requesting a Medicare hearing or appeal. In addition, information contained in this system may be obtained from Medicare carriers or intermediaries and Quality Improvement Organizations' records.

Systems Exempted from Certain Provisions of the Act:

None.

Appendix A. Health Insurance Claims

Medicare records are maintained at the CMS Central Office (see section 1 below for the address). Health Insurance Records of the Medicare program can also be accessed through a representative of the CMS Regional Office (see section 2 below for addresses). Medicare claims records are also maintained by private insurance organizations that share in administering provisions of the health insurance programs. These private insurance organizations, referred to as carriers and intermediaries, are under contract to the Centers for Medicare & Medicaid Services to perform specific task in the Medicare program (see section 3 below for addresses for intermediaries, section 4 for addresses for carriers, and section 5 for addresses for the Payment Safeguard Contractors).

1. Central Office Address

CMS Data Center, 7500 Security Boulevard, North Building, First Floor, Baltimore, Maryland 21244-1850.

2. CMS Regional Offices

• Boston Region—Connecticut, Maine, Massachusetts, New Hampshire, Rhode Island, Vermont. John F. Kennedy Federal Building, Room 1211, Boston, Massachusetts 02203. Office Hours: 8:30 a.m.-5 p.m.

• New York Region—New Jersey, New York, Puerto Rico, Virgin Islands. 26 Federal Plaza, Room 715, New York, New York 10007. Office Hours: 8:30 a.m.-5 p.m.

• Philadelphia Region—Delaware, District of Columbia, Maryland, Pennsylvania, Virginia, West Virginia. Post Office Box 8460, Philadelphia, Pennsylvania 19101. Office Hours: 8: 30 a.m.-5 p.m.

• Atlanta Region—Alabama, North Carolina, South Carolina, Florida, Georgia, Kentucky, Mississippi, Tennessee. 101 Marietta Street, Suite 702, Atlanta, Georgia 30223. Office Hours: 8:30 a.m.-4:30 p.m.

• Chicago Region—Illinois, Indiana, Michigan, Minnesota, Ohio, Wisconsin. Suite A—824, Chicago, Illinois 60604. Office Hours: 8 a.m.-4:45 p.m.

• Dallas Region—Arkansas, Louisiana, New Mexico, Oklahoma, Texas. 1200 Main Tower Building, Dallas, Texas. Office Hours: 8 a.m.-4:30 p.m.

• Kansas Region—Iowa, Kansas, Missouri, Nebraska. New Federal Office Building, 601 East 12th Street—Room 436, Kansas City, Missouri 64106. Office Hours: 8 a.m.-4:45 p.m.

• Denver Region—Colorado, Montana, North Dakota, South Dakota, Utah, Wyoming. Federal Office Building, 1961 Stout St—Room 1185, Denver, Colorado 80294. Office Hours: 8 a.m.-4:30 p.m.

• San Francisco Region—American Samoa, Arizona, California, Guam, Hawaii, Nevada. Federal Office Building, 10 Van Ness Avenue, 20th Floor, San Francisco, California 94102. Office Hours: 8 a.m.-4:30 p.m.

• Seattle Region—Alaska, Idaho, Oregon, Washington. 1321 Second Avenue, Room 615, Mail Stop 211, Seattle, Washington 98101. Office Hours: 8 a.m.-4:30 p.m.

3. Intermediary Addresses (Hospital Insurance)

• Medicare Coordinator, Assoc. Hospital Serv. Main (ME BC), 2 Gannett Drive, South Portland, ME 04106-6911.

• Medicare Coordinator, Anthem New Hampshire, 300 Goffs Falls Road, Manchester, NH 03111-0001.

• Medicare Coordinator, BC/BS Rhode Island (RI BC), 444 Westminster Street, Providence, RI 02903-3279.

• Medicare Coordinator, Empire Medicare Services, 400 S. Salina Street, Syracuse, NY 13202.

• Medicare Coordinator, Cooperativa, P.O. Box 363428, San Juan, PR 00936-3428.

• Medicare Coordinator, Maryland B/C, P.O. Box 4368, 1946 Greenspring Ave., Timonium, MD 21093.

• Medicare Coordinator, Highmark, P5103, 120 Fifth Avenue Place, Pittsburgh, PA 15222-3099.

• Medicare Coordinator, United Government Services, 1515 N. Rivercenter Dr., Milwaukee, WI 53212.

• Medicare Coordinator, Alabama B/C, 450 Riverchase Parkway East, Birmingham, AL 35298.

• Medicare Coordinator, Florida B/C, 532 Riverside Ave., Jacksonville, FL 32202-4918.

• Medicare Coordinator, Georgia B/C, P.O. Box 9048, 2357 Warm Springs Road, Columbus, GA 31908.

• Medicare Coordinator, Mississippi B/C B MS, P.O. Box 23035, 3545 Lakeland Drive, Jackson, MI 9225-3035.

• Medicare Coordinator, North Carolina B/C, P.O. Box 2291, Durham, NC 27702-2291.

• Medicare Coordinator, Palmetto GBA A/RHHI, 17 Technology Circle, Columbia, SC 29203-0001.

• Medicare Coordinator, Tennessee B/C, 801 Pine Street, Chattanooga, TN 37402-2555.

• Medicare Coordinator, Anthem Insurance Co. (Anthem IN), P.O. Box 50451, 8115 Knue Road, Indianapolis, IN 46250-1936.

• Medicare Coordinator, Arkansas B/C, 601 Gaines Street, Little Rock, AR 72203.

• Medicare Coordinator, Group Health of Oklahoma, 1215 South Boulder, Tulsa, OK 74119-2827.

• Medicare Coordinator, Trailblazer, P.O. Box 660156, Dallas, TX 75266-0156.

• Medicare Coordinator, Cahaba GBA, Station 7, 636 Grand Avenue, Des Moines, IA 50309-2551.

• Medicare Coordinator, Kansas B/C, P.O. Box 239, 1133 Topeka Ave., Topeka, KS 66629-0001.

• Medicare Coordinator, Nebraska B/C, P.O. Box 3248, Main PO Station, Omaha, NE 68180-0001.

• Medicare Coordinator, Mutual of Omaha, P.O. Box 1602, Omaha, NE 68101.

• Medicare Coordinator, Montana B/C, P.O. Box 5017, Great Falls Div., Great Falls, MT 59403-5017.

• Medicare Coordinator, Noridian, 4510 13th Avenue S.W., Fargo, ND 58121-0001.

• Medicare Coordinator, Utah B/C, P.O. Box 30270, 2455 Parleys Way, Salt Lake City, UT 84130-0270.

• Medicare Coordinator, Wyoming B/C, 4000 House Avenue, Cheyenne, WY 82003.

• Medicare Coordinator, Arizona B/C, P.O. Box 37700, Phoenix, AZ 85069.

• Medicare Coordinator, UGS, P.O. Box 70000, Van Nuys, CA 91470-0000.

• Medicare Coordinator, Regents BC, P.O. Box 8110 M/S D-4A, Portland, OR 97207-8110.

• Medicare Coordinator, Premera BC, P.O. Box 2847, Seattle, WA 98111-2847.

4. Medicare Carriers

• Medicare Coordinator, NHIC, 75 Sargent William Terry Drive, Hingham, MA 02044.

• Medicare Coordinator, B/S Rhode Island (RI BS), 444 Westminster Street, Providence, RI 02903-2790.

• Medicare Coordinator, Trailblazer Health Enterprises, Meriden Park, 538 Preston Ave., Meriden, CT 06450.

• Medicare Coordinator, Upstate Medicare Division, 11 Lewis Road, Binghamton, NY 13902.

• Medicare Coordinator, Empire Medicare Services, 2651 Strang Blvd., Yorktown Heights, NY 10598.

• Medicare Coordinator, Empire Medicare Services, NJ, 300 East Park Drive, Harrisburg, PA 17106.

• Medicare Coordinator, Triple S, #1441 F.D., Roosevelt Ave., Guaynabo, PR 00968.

• Medicare Coordinator, Group Health Inc., 4th Floor, 88 west End Avenue, New York, NY 10023.

• Medicare Coordinator, Highmark, P.O. Box 89065, 1800 Center Street, Camp Hill, PA 17089-9065.

• Medicare Coordinator, Trailblazers Part B, 11150 McCormick Drive, Executive Plaza 3 Suite 200, Hunt Valley, MD 21031.

• Medicare Coordinator, Trailblazer Health Enterprises, Virginia, P.O. Box 26463, Richmond, VA 23261-6463. United Medicare Coordinator, Tricenturion, 1 Tower Square, Hartford, CT 06183.

• Medicare Coordinator, Alabama B/S, 450 Riverchase Parkway East, Birmingham, AL 35298.

• Medicare Coordinator, Cahaba GBA, 12052 Middleground Road, Suite A, Savannah, GA 31419.

• Medicare Coordinator, Florida B/S, 532 Riverside Ave., Jacksonville, FL 32202-4918.

• Medicare Coordinator, Administar Federal, 9901 Linnstation Road, Louisville, KY 40223.

• Medicare Coordinator, Palmetto GBA, 17 Technology Circle, Columbia, SC 29203-0001.

• Medicare Coordinator, CIGNA, 2 Vantage Way, Nashville, TN 37228.

• Medicare Coordinator, Railroad Retirement Board, 2743 Perimeter Parkway, Building 250, Augusta, GA 30999.

• Medicare Coordinator, Cahaba GBA, Jackson Miss., P.O. Box 22545, Jackson, MI 39225-2545.

• Medicare Coordinator, Administar Federal (IN), 8115 Knue Road, Indianapolis, IN 46250-1936.

• Medicare Coordinator, Wisconsin Physicians Service, P.O. Box 8190, Madison, WI 53708-8190.

• Medicare Coordinator, Nationwide Mutual Insurance Co., P.O. Box 16788, 1 Nationwise Plaza, Columbus, OH 3216-6788.

• Medicare Coordinator, Arkansas B/S, 601 Gaines Street, Little Rock, AR 72203.

• Medicare Coordinator, Arkansas-New Mexico, 601 Gaines Street, Little Rock, AR 72203.

• Medicare Coordinator, Palmetto GBA—DMERC, 17 Technology Circle, Columbia SC 29203-0001.

• Medicare Coordinator, Trailblazer Health Enterprises, 901 South Central Expressway, Richardson, TX 75080.

• Medicare Coordinator, Nordian, 636 Grand Avenue, Des Moines, IA 50309-2551.

• Medicare Coordinator, Kansas B/S, P.O. Box 239, 1133 Topeka Ave., Topeka, KS 66629.

• Medicare Coordinator, Kansas B/S—NE, P.O. Box 239, 1133 Topeka Ave., Topeka, KS 66629.

• Medicare Coordinator, Montana B/S, P.O. Box 4309, Helena, MT 59601.

• Medicare Coordinator, Nordian, 4305 13th Avenue South, Fargo, ND 58103-3373.

• Medicare Coordinator, Noridian BCBSND (CO), 730 N. Simms #100, Golden, CO 80401-4730.

• Medicare Coordinator, Noridian BCBSND (WY), 4305 13th Avenue South, Fargo, ND 58103-3373.

• Medicare Coordinator, Utah B/S, P.O. Box 30270, 2455 Parleys Way, Salt Lake City, UT 84130-0270.

• Medicare Coordinator, Transamerica Occidental, P.O. Box 54905, Los Angeles, CA 90054-4905.

• Medicare Coordinator, NHIC—California, 450 W. East Avenue, Chico, CO 95926.

• Medicare Coordinator, Cigna, Suite 254, 3150 Lakeharbor, Boise, ID 83703.

• Medicare Coordinator, Cigna, Suite 506, 2 Vantage Way, Nashville, TN 37228.

5. Payment Safeguard Contractors

• Medicare Coordinator, Aspen Systems Corporation, 2277 Research Blvd., Rockville, MD 20850.

• Medicare Coordinator, DynCorp Electronic Data Systems (EDS), 11710 Plaza America Drive 5400 Legacy Drive, Reston, VA 20190-6017.

• Medicare Coordinator, Lifecare management Partners Mutual of Omaha Insurance Co., 6601 Little Rive Turnpike, Suite 300 Mutual of Omaha Plaza, Omaha, NE 68175.

• Medicare Coordinator, Reliance Safeguard Solutions, Inc., P.O. Box 30207 400 South Salina Street, 2890 East Cottonwood Parkway, Syracuse, NY 13202.

• Medicare Coordinator, Science Applications International Inc., 6565 Arlington Blvd. P.O. Box 100282, Falls Church, VA.

• Medicare Coordinator, California Medical Review, Inc., Integriguard Division Federal Sector Civil Group One Sansome Street, San Francisco, CA 94104-4448.

• Medicare Coordinator, Computer Sciences Corporation Suite 600 3120 Timanus Lane, Baltimore, MD 21244.

• Medicare Coordinator, Electronic Data System (EDS), 11710 Plaza American Drive, 5400 Legacy Drive, Plano, TX 75204.

• Medicare Coordinator, TriCenturion, L.L.C., P.O. Box 100282, Columbia, SC 29202.

6. Qualified Independent Contractors

• Medicare Contractor, Maximus Federal Services, Inc., 1040 First Avenue, Suite 400, King of Prussia, PA 19406.

• Medicare Contractor, Maximus Federal Services, Inc., 50 Square Drive, Victor, NY 19406.

• Medicare Contractor, Q² Administrators, 17 Technology Circle, Columbia, SC 29203.

• Medicare Contractor, Q² Administrators, 5150 East Dublin-Granville Road, Suite 200, Westerville, OH 43081.

• Medicare Contractor, First Coast Service Options, 532 Riverside Avenue, Jacksonville, FL 32202.

[FR Doc. E6-15128 Filed 9-14-06; 8:45 am]

BILLING CODE 4120-03-P